DEPARTMENT OF ENERGY

Federal Energy Regulatory Commission

Combined Notice of Filings #2

September 27, 2010.

Take notice that the Commission received the following electric rate filings:

Docket Numbers: ER10-2997-000.

Applicants: Atlantic City Electric Company.

Description: Atlantic City Electric Company submits tariff filing per 35.12: Atlantic City Electric MBR Baseline Tariff to be effective 9/27/2010.

Filed Date: 09/27/2010.

Accession Number: 20100927-5059.

Comment Date: 5 p.m. Eastern Time on Monday, October 18, 2010.

Docket Numbers: ER10-2998-000.

Applicants: Klamath Generation LLC.

Description: Klamath Generation LLC submits tariff filing per 35.12: Baseline Filing of Market-Based Rate Tariff to be effective 9/27/2010.

Filed Date: 09/27/2010.

Accession Number: 20100927-5062.

Comment Date: 5 p.m. Eastern Time on Monday, October 18, 2010.

Docket Numbers: ER10-2999-000.

Applicants: Klondike Wind Power LLC.

Description: Klondike Wind Power LLC submits tariff filing per 35.12: Baseline Filing of Market-Based Rate Tariff to be effective 9/27/2010.

Filed Date: 09/27/2010.

Accession Number: 20100927-5063.

Comment Date: 5 p.m. Eastern Time on Monday, October 18, 2010.

Docket Numbers: ER10-3000-000.

Applicants: Klondike Wind Power II LLC.

Description: Klondike Wind Power II LLC submits tariff filing per 35.12: Baseline Filing of Market-Based Rate Tariff to be effective 9/27/2010.

Filed Date: 09/27/2010.

Accession Number: 20100927-5064.

Comment Date: 5 p.m. Eastern Time on Monday, October 18, 2010.

Docket Numbers: ER10-3001-000.

Applicants: Lempster Wind, LLC.

Description: Lempster Wind, LLC submits tariff filing per 35.12: Baseline Filing of Market-Based Rate Tariff to be effective 9/27/2010.

Filed Date: 09/27/2010.

Accession Number: 20100927-5077.

Comment Date: 5 p.m. Eastern Time on Monday, October 18, 2010.

Docket Numbers: ER10-3002-000.

Applicants: Locust Ridge Wind Farm, LLC.

Description: Locust Ridge Wind Farm, LLC submits tariff filing per 35.12: Baseline Filing of Market-Based Rate Tariff to be effective 9/27/2010.

Filed Date: 09/27/2010.

Accession Number: 20100927-5084.

Comment Date: 5 p.m. Eastern Time on Monday, October 18, 2010.

Docket Numbers: ER10-3003-000.

Applicants: Bethlehem Renewable Energy, LLC.

Description: Bethlehem Renewable Energy, LLC submits tariff filing per 35.12: Bethlehem Renewable Energy MBR Tariff Baseline to be effective 9/27/2010.

Filed Date: 09/27/2010.

Accession Number: 20100927-5087.

Comment Date: 5 p.m. Eastern Time on Monday, October 18, 2010.

Docket Numbers: ER10-3004-000.

Applicants: Locust Ridge Wind Farm II, LLC.

Description: Locust Ridge Wind Farm II, LLC submits tariff filing per 35.12: Baseline Filing of Market-Based Rate Tariff to be effective 9/27/2010.

Filed Date: 09/27/2010.

Accession Number: 20100927-5090.

Comment Date: 5 p.m. Eastern Time on Monday, October 18, 2010.

Docket Numbers: ER10-3005-000.

Applicants: MinnDakota Wind LLC.

Description: MinnDakota Wind LLC submits tariff filing per 35.12: Baseline Filing of Market-Based Rate Tariff to be effective 9/27/2010.

Filed Date: 09/27/2010

Accession Number: 20100927-5094.

Comment Date: 5 p.m. Eastern Time on Monday, October 18, 2010.

Docket Numbers: ER10-3006-000.

Applicants: Moraine Wind LLC.

Description: Moraine Wind LLC submits tariff filing per 35.12: Baseline Filing of Market-Based Rate Tariff to be effective 9/27/2010.

Filed Date: 09/27/2010.

Accession Number: 20100927-5097.

Comment Date: 5 p.m. Eastern Time on Monday, October 18, 2010.

Docket Numbers: ER10-3007-000.

Applicants: Moraine Wind II LLC.

Description: Moraine Wind II LLC submits tariff filing per 35.12: Baseline Filing of Market-Based Rate Tariff to be effective 9/27/2010.

Filed Date: 09/27/2010.

Accession Number: 20100927-5098.

Comment Date: 5 p.m.Eastern Time on Monday, October 18, 2010.

Docket Numbers: ER10-3008-000.

Applicants: Northern Iowa Windpower II LLC.

Description: Northern Iowa Windpower II LLC submits tariff filing per 35.12: Baseline Filing of Market-Based Rate Tariff to be effective 9/27/2010.

Filed Date: 09/27/2010.

Accession Number: 20100927-5099.

Comment Date: 5 p.m. Eastern Time on Monday, October 18, 2010.

Docket Numbers: ER10-3009-000.

Applicants: Pebble Springs Wind LLC.

Description: Pebble Springs Wind LLC submits tariff filing per 35.12: Baseline Filing of Market-Based Rate Tariff to be effective 9/27/2010.

Filed Date: 09/27/2010.

Accession Number: 20100927-5100.

Comment Date: 5 p.m. Eastern Time on Monday, October 18, 2010.

Docket Numbers: ER10-3010-000.

Applicants: Providence Heights Wind, LLC.

Description: Providence Heights Wind, LLC submits tariff filing per 35.12: Baseline Filing of Market-Based Rate Tariff to be effective 9/27/2010.

Filed Date: 09/27/2010.

Accession Number: 20100927-5101.

Comment Date: 5 p.m. Eastern Time on Monday, October 18, 2010.

Docket Numbers: ER10-3011-000.

Applicants: Rugby Wind LLC.

Description: Rugby Wind LLC submits tariff filing per 35.12: Baseline Filing of Market-Based Rate Tariff to be effective 9/27/2010.

Filed Date: 09/27/2010.

Accession Number: 20100927-5105.

Comment Date: 5 p.m. Eastern Time on Monday, October 18, 2010.

Docket Numbers: ER10-3012-000.

Applicants: Conectiv Energy Supply, Inc.

Description: Conectiv Energy Supply, Inc. submits tariff filing per 35.12: Conectiv Energy Supply MBR Tariff Baseline to be effective 9/27/2010.

Filed Date: 09/27/2010.

Accession Number: 20100927-5107.

Comment Date: 5 p.m. Eastern Time on Monday, October 18, 2010.

Docket Numbers: ER10-3013-000.

Applicants: Star Point Wind Project LLC.

Description: Star Point Wind Project LLC submits tariff filing per 35.12: Baseline Filing of Market-Based Rate Tariff to be effective 9/27/2010.

Filed Date: 09/27/2010.

Accession Number: 20100927-5109.

Comment Date: 5 p.m. Eastern Time on Monday, October 18, 2010.

Docket Numbers: ER10-3014-000.

Applicants: Twin Buttes Wind LLC.

Description: Twin Buttes Wind LLC submits tariff filing per 35.12: Baseline Filing of Market-Based Rate Tariff to be effective 9/27/2010.

Filed Date: 09/27/2010.

Accession Number: 20100927-5110.

Comment Date: 5 p.m. Eastern Time on Monday, October 18, 2010.

Docket Numbers: ER10-3015-000.

Applicants: Eastern Landfill Gas, LLC.

Description: Eastern Landfill Gas, LLC submits tariff filing per 35.12: Eastern Landfill Market Based Rate Baseline Tariff to be effective 9/27/2010.

Filed Date: 09/27/2010.

Accession Number: 20100927-5111.

Comment Date: 5 p.m. Eastern Time on Monday, October 18, 2010.

Docket Numbers: ER10-3016-000.

Applicants: Fauquier Landfill Gas, LLC.

Description: Fauquier Landfill Gas, LLC submits tariff filing per 35.12: Fauquier Landfill Market Based Rate Tariff Baseline to be effective 9/27/2010.

Filed Date: 09/27/2010.

Accession Number: 20100927-5112.

Comment Date: 5 p.m. Eastern Time on Monday, October 18, 2010.

Docket Numbers: ER10-3017-000.

Applicants: The Dayton Power and Light Company.

Description: The Dayton Power and Light Company submits tariff filing per 35.12: FERC Rate Schedule No. 49, Village of Eldorado to be effective 9/27/2010.

Filed Date: 09/27/2010.

Accession Number: 20100927-5113.

Comment Date: 5 p.m. Eastern Time on Monday, October 18, 2010.

Docket Numbers: ER10-3018-000.

Applicants: Delmarva Power & Light Company.

Description: Delmarva Power & Light Company submits tariff filing per 35.12: Delmarva Power & Light Company Market Based Rate Baseline Tariff to be effective 9/27/2010.

Filed Date: 09/27/2010.

Accession Number: 20100927-5114.

Comment Date: 5 p.m. Eastern Time on Monday, October 18, 2010.

Docket Numbers: ER10-3019-000.

Applicants: Southern California Edison Company.

Description: Southern California Edison Company submits tariff filing per 35.13(a)(2)(iii): Revised LGIA & Svc Agmt for Wholesale Dist Svc_SCE'S GenBusUnit_ Center Peaker to be effective 11/27/2010.\R10-03019-000 Filing Type: 10.

Filed Date: 09/27/2010.

Accession Number: 20100927-5118.

Comment Date: 5 p.m. Eastern Time on Monday, October 18, 2010.

Docket Numbers: ER10-3020-000.

Applicants: Public Service Company of Colorado.

Description: Public Service Company of Colorado submits tariff filing per 35.13(a)(2)(iii: 2010-09-27_PSCo Vol 5_cover_281-PSCo to be effective 10/15/2010.

Filed Date: 09/27/2010.

Accession Number: 20100927-5124.

Comment Date: 5 p.m. Eastern Time on Monday, October 18, 2010.

Docket Numbers: ER10-3021-000.

Applicants: S. D. Warren Company.

Description: S. D. Warren Company submits tariff filing per 35.12: S.D. Warren Company FERC Electric Tariff to be effective 9/30/2010.

Filed Date: 09/27/2010.

Accession Number: 20100927-5127.

Comment Date: 5 p.m. Eastern Time on Monday, October 18, 2010.

Docket Numbers: ER10-3024-000.

Applicants: Pace Global Asset Management, LLC.

Description: Pace Global Asset Management, LLC submits tariff filing per 35.12: FERC Electric Tariff, Original Volume No. 1 Revised to be effective 1/11/2010.

Filed Date: 09/27/2010.

Accession Number: 20100927-5143.

Comment Date: 5 p.m. Eastern Time on Monday, October 18, 2010.

Docket Numbers: ER10-3025-000.

Applicants: Integrys Energy Services, Inc.

Description: Integrys Energy Services, Inc. submits tariff filing per 35.12: Integrys Energy Services, Inc. Market Based Rate Tariff Baseline Filing to be effective 9/27/2010.

Filed Date: 09/27/2010.

Accession Number: 20100927-5144.

Comment Date: 5 p.m. Eastern Time on Monday, October 18, 2010.

Docket Numbers: ER10-3026-000.

Applicants: Termoelectrica U.S., LLC.

Description: Termoelectrica U.S., LLC submits tariff filing per 35.12: Termoelectrica U.S. LLC FERC Electric Tariff No. 1 Market-Based Rates Tariff to be effective 9/27/2010.

Filed Date: 09/27/2010.

Accession Number: 20100927-5149.

Comment Date: 5 p.m. Eastern Time on Monday, October 18, 2010.

Docket Numbers: ER10-3027-000.

Applicants: Integrys Energy Services of New York, Inc.

Description: Integrys Energy Services of New York, Inc. submits tariff filing per 35.12: Integrys Energy Services of New York Market Based Rate Tariff Baseline Filing to be effective 9/27/2010.

Filed Date: 09/27/2010.

Accession Number: 20100927-5159.

Comment Date: 5 p.m. Eastern Time on Monday, October 18, 2010.

Docket Numbers: ER10-3028-000.

Applicants: Elk Hills Power, LLC.

Description: Elk Hills Power, LLC submits tariff filing per 35.12: Elk Hills Power, LLC, FERC Electric Tariff No. 1 MBR Tariff baseline filing to be effective 9/27/2010.

Filed Date: 09/27/2010.

Accession Number: 20100927-5164.

Comment Date: 5 p.m. Eastern Time on Monday, October 18, 2010.

Docket Numbers: ER10-3029-000.

Applicants: Klondike Wind Power III LLC.

Description: Klondike Wind Power III LLC submits tariff filing per 35.12: Baseline Filing of Market-Based Rate Tariff to be effective 9/27/2010.

Filed Date: 09/27/2010.

Accession Number: 20100927-5172.

Comment Date: 5 p.m. Eastern Time on Monday, October 18, 2010.

Docket Numbers: ER10-3030-000.

Applicants: Potomac Electric Power Company.

Description: Potomac Electric Power Company submits tariff filing per 35.12: PEPCO Market Based Rate Tariff Baseline Filing to be effective 9/27/2010.

Filed Date: 09/27/2010.

Accession Number: 20100927-5174.

Comment Date: 5 p.m. Eastern Time on Monday, October 18, 2010.

Docket Numbers: ER10-3031-000.

Applicants: Streator-Cayuga Ridge Wind Power LLC.

Description: Streator-Cayuga Ridge Wind Power LLC submits tariff filing per 35.12: Baseline Filing of Market-Based Rate Tariff to be effective 9/27/2010.

Filed Date: 09/27/2010.

Accession Number: 20100927-5175.

Comment Date: 5 p.m. Eastern Time on Monday, October 18, 2010.

Docket Numbers: ER10-3032-000.

Applicants: Trimont Wind I LLC.

Description: Trimont Wind I LLC submits tariff filing per 35.12: Baseline Filing of Market-Based Rate Tariff to be effective 9/27/2010.

Filed Date: 09/27/2010.

Accession Number: 20100927-5176.

Comment Date: 5 p.m. Eastern Time on Monday, October 18, 2010.

Docket Numbers: ER10-3033-000.

Applicants: Panda-Brandywine, L.P.

Description: Panda-Brandywine, L.P. submits tariff filing per 35.12: Market-Based Rate Tariff to be effective 9/27/2010.

Filed Date: 09/27/2010.

Accession Number: 20100927-5185.

Comment Date: 5 p.m. Eastern Time on Monday, October 18, 2010.

Take notice that the Commission received the following electric reliability filings:

Docket Numbers: RR10-6-001.

Applicants: North American Electric Reliability Corporation.

Description: North American Electric Reliability Corporation Reconciliation Report Submitted in Accordance with Petition for Approval of Delegation Agreement with Texas Reliability Entity, Inc. and 2010 Business Plan and Budget of Texas Reliability Entity, Inc.

Filed Date: 09/24/2010.

Accession Number: 20100924-5214.

Comment Date: 5 p.m. Eastern Time on Friday, October 15, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25094 Filed 10-5-10; 8:45 am]

BILLING CODE 6717-01-P